FEDERAL MARITIME COMMISSION

Notice of Agreement(s) Filed

The Commission hereby gives notice of the filing of the following agreement(s) under the Shipping Act of 1984. Interested parties can review or obtain copies of agreements at the Washington, DC, offices of the Commission, 800 North Capitol Street, NW., Room 940. Interested parties may submit comments on an agreement to the Secretary, Federal Maritime Commission, Washington, DC 20573, within 10 days of the date this notice appears in the Federal Register.

Agreement No.: 011528-023.

Title: Japan/United States Eastbound Freight Conference.

Parties: A.P. Moller-Maersk Sealand; American President Lines, Ltd.; Hapag-Lloyd Container Linie GmbH; Kawasaki Kisen Kaisha, Ltd.; Mitsui O.S.K. Lines, Ltd.; Nippon Yusen Kaisha; Orient Overseas Container Line Limited; P&O Nedlloyd B.V.; P&O Nedlloyd Limited; and Wallenius Wilhelmsen Lines AS.

Synopsis: The amendment extends the suspension of the agreement through January 31, 2004.

Agreement No.: 011829-001.

Title: The Ro Ro Ancillary Agreement.

Parties: EUKOR Car Carriers, Inc.; Wallenius Wilhelmsen Lines AS; Walleniusrederierna AB; Wilh. Wilhelmsen ASA; and Hyundai Merchant Marine Co., Ltd.

Synopsis: The amendment reflects a change in name of Ro Ro Korea Inc., to EUKOR Car Carriers, Inc.

Agreement No.: 011858.

Title: CSCL/NLL Cross Space Charter, Sailing and Cooperative Working Agreement—Mediterranean/Far East/PNW Loop.

Parties: China Shipping Container Lines Co., Ltd.; Norasia Container Lines Limited.

Synopsis: The proposed agreement is a vessel-sharing agreement in the trades between U.S. West Coast ports and ports in Canada, the Far East, and on the Mediterranean Sea. The parties request expedited review.

Agreement No.: 200866-003.

Title: Broward/King Ocean Lease and Operating Agreement.

Parties: Broward County (Florida); King Ocean Service de Venezuela, S.A.; and King Ocean Central America, S.A.

Synopsis: The amendment changes the financial basis for payments under the agreement and extends the agreement through June 14, 2009.

Agreement No.: 201113-003.

Title: Oakland-SSA LLC Preferential Assignment Agreement.

Parties: Port of Oakland; SSA Terminals, LLC.

Synopsis: The amendment makes temporary changes to the minimum annual guarantee and break point levels, permits temporary use of an adjacent berth, and extends the agreement's termination to October 18, 2017.

By Order of the Federal Maritime Commission.
Dated: August 1, 2003.
Bryant L. VanBrakle,
Secretary.

[FR Doc. 03-20067 Filed 8-6-03; 8:45 am]

BILLING CODE 6730-01-P